DEPARTMENT OF THE TREASURY

Bureau of Alcohol, Tobacco and Firearms

[Docket No. 918; ATF O 1130.21]

Delegation Order—Delegation of the Director's Authorities in 27 CFR Part 13, Labeling Proceedings

To: All Bureau Supervisors

1. Purpose. This order delegates certain authorities of the Director to subordinate ATF officers.

2. Background. Under current regulations, the Director has authority to take final action on matters relating to the procedure and practice in connection with the issuance, denial, and revocation of certificates of label approval, certificates of exemption from label approval, and distinctive liquor bottle approvals. We have determined that certain of these authorities should, in the interest of efficiency, be delegated to a lower organizational level.

3. Delegations. Under the authority vested in the Director, Bureau of Alcohol, Tobacco and Firearms, by Treasury Department Order No. 120-01 (formerly 221), dated June 6, 1972, and by 26 CFR 301.7701-9, this ATF Order delegates certain authorities to take final action prescribed in 27 CFR Part 13 to subordinate officers. Also, this ATF Order prescribes the subordinate ATF officer's with whom appeals and other documents required by 27 CFR Part 13, which are not ATF forms, are filed. The attached table identifies the regulatory sections, documents and authorized ATF officers. The authorities in the table may not be redelegated. An ATF organization chart showing the directorates involved in this delegation order has been attached.

4. Questions. Any questions concerning this order should be directed to the Regulations Division at 202-927-8210.

Bradley A. Buckles,
Director.

Table of Authorities, Documents To Be Filed, and Authorized Officials
Regulatory section | Officer(s) authorized to act or receive document.
Section 13.11 (Definition of Liquor bottle) | Specialist, Alcohol Labeling and Formulation Division (ALFD).
§ 13.20(a) | Chief, ALFD.
§ 13.21(b) | Specialist, ALFD.
§ 13.23 | Specialist, ALFD.
§ 13.25 | Specialist or Assistant to the Division Chief, ALFD.
§ 13.26(a)&(b) | Assistant to the Division Chief, ALFD.
§ 13.27 | Chief, ALFD.
§ 13.41 | Chief, ALFD.
§ 13.42 | Assistant to the Division Chief, ALFD.
§ 13.43 | Chief, ALFD.
§ 13.44 | Assistant Director (Alcohol and Tobacco).
§ 13.45 | Assistant Director (Alcohol and Tobacco).
§ 13.52 | Assistant to the Division Chief, ALFD.
§ 13.53 | Chief, ALFD.
§ 13.54 | Chief, ALFD.
§ 13.61(b) | Chief, ALFD.
§ 13.62 | Assistant to the Division Chief, ALFD..
§ 13.72(b) | Assistant Director (Alcohol and Tobacco)

BILLING CODE 4810-31-P

[FR Doc. 01-13820 Filed 5-31-01; 8:45 am]

BILLING CODE 4810 31 C